FEDERAL COMMUNICATIONS COMMISSION

47 CFR Part 64

[CG Docket No. 20-93; FCC 20-171; FRS 17291]

Protecting Consumers From One-Ring Scams

AGENCY: Federal Communications Commission.

ACTION: Final rule.

SUMMARY: In this document, the Federal Communications Commission (FCC or Commission) implements section 12 of the TRACED Act in order to enable voice service providers to block calls from numbers associated with a type of illegal robocall known as a one-ring scam. The Commission also, pursuant to the TRACED Act, expands collaborative law enforcement and consumer education activities to stop one-ring scams and other fraudulent and abusive robocalling practices. The measures adopted by the Commission empower voice service providers to stop these illegal robocalls and will give consumers substantial additional protection from these scams.

DATES: Effective February 12, 2021.

FOR FURTHER INFORMATION CONTACT: Mika Savir of the Consumer Policy Division, Consumer and Governmental Affairs Bureau, at mika.savir@fcc.gov or (202) 418-0384.

SUPPLEMENTARY INFORMATION: This is a summary of the Commission's Report and Order, FCC 20-171, CG Docket No. 20-93, adopted on November 24, 2020, and released on November 30, 2020. The full text of this document is available online at https://docs.fcc.gov/public/attachments/FCC-20-171A1.docx. To request this document in accessible formats for people with disabilities (e.g., Braille, large print, electronic files, audio format) or to request reasonable accommodations (e.g., accessible format documents, sign language interpreters, CART), send an email to fcc504@fcc.gov or call the FCC's Consumer and Governmental Affairs Bureau at (202) 418-0530 (voice), (202) 418-0432 (TTY).

Congressional Review Act

The Commission sent a copy of document FCC 20-171 to Congress and the Government Accountability Office pursuant to the Congressional Review Act, 5 U.S.C. 801(a)(1)(A).

Final Paperwork Reduction Act of 1995 Analysis

The Report and Order does not contain any new or modified information collection requirements subject to the Paperwork Reduction Act of 1995, Public Law 104-13. It, therefore, does not contain any new or modified information collection burden for small business concerns with fewer than 25 employees, pursuant to the Small Business Paperwork Relief Act of 2002, Public Law 107-198, see 44 U.S.C. 3506(c)(4).

Synopsis

1. In the Report and Order, the Commission implements section 12 of the Pallone-Thune Telephone Robocall Abuse Criminal Enforcement Act (TRACED Act), Public Law 116-105, 12, December 30, 2019, 133 Stat. 3286 (codified at 47 U.S.C. 227 note). Section 12 of the TRACED Act directs the Commission to consider taking additional steps to protect called parties from a type of illegal call known as the one-ring scam. In the Report and Order, the Commission adopts the proposal in the Notice of Proposed Rulemaking (NPRM), published at 85 FR 30672, May 20, 2020, with some minor modifications. The Commission adds a new paragraph (k)(2)(iv) to 47 CFR 64.2400 to allow voice service providers to block all calls from a telephone number that the provider identifies, based on reasonable analytics, as highly likely to be associated with a one-ring scam. The Commission also adopts a definition of one-ring scam in paragraph (f)(8) that is consistent with the definition set forth in the proposed rule: The term one-ring scam means a scam in which a caller makes a call and allows the call to ring the called party for a short duration, in order to prompt the called party to return the call, thereby subjecting the called party to charges.

2. Based on the record, the Commission concludes that these rule changes will help protect consumers from the scam and, consistent with section 12(b)(4) of the TRACED Act, will incentivize voice service providers to stop calls made to perpetrate one-ring scams from being received by called parties. This rule amendment is also consistent with the congressional directive in the same section of the statute regarding the addition of identified one-ring scam type numbers to the Commission's existing list of permissible categories for carrier-initiated blocking. In addition, pursuant to section 12(b)(5) of the TRACED Act, this rule takes into account and relies, in part, on the work of entities that provide call-blocking services to address one-ring scams.

3. One-ring scam calls serve no beneficial purpose, and thus no reasonable consumer would want to receive them. Accordingly, the Commission does not require terminating providers to give their customers an opportunity to opt out of the blocking of such calls. The Commission encourages voice service providers to implement call-blocking measures that will help eliminate or reduce the number of one-ring scam calls that reach consumers.

4. The Commission also extends to one-ring scam blocking the safe harbor for inadvertent blocking of wanted robocalls using reasonable analytics. This safe harbor gives voice service providers assurance that blocking of one-ring scam calls based on reasonable analytics will not result in liability if they inadvertently block wanted calls, and it thus strengthens their ability and incentive to protect consumers from such scams. For this reason, the Commission is adding a reference to reasonable analytics—a term that was not included in the rule text proposed in the NPRM—to paragraph (k)(2)(iv) of the final rule.

5. While voice service providers already have authority to block illegal one-ring scam calls, the rule adopted herein will remove any doubt that voice service providers may lawfully use reasonable analytics to identify and block calls that appear to be one-ring scam calls, even if such identification proves to be erroneous in any particular instance; that they may do so without fear of liability for inadvertently blocking wanted calls; and that they may do so on a network-wide basis. The Commission believes this will strongly encourage voice service providers to take a more aggressive approach to blocking one-ring scam calls and thus will further protect consumers from such scams.

6. Some commenters recommended that the Commission focus on combatting one-ring scam calls that fraudulently induce consumers to place calls to premium-rate numbers under a foreign government's national numbering plan, subject to analytics that suggest reasonable cause to treat such inbound calls as scam calls. The Commission agrees that voice service providers could block such inbound calls if they satisfy the applicable criteria in the rules.

7. Section 12(b)(6) of the TRACED Act directs the Commission to consider requiring international gateway providers to verify the nature or purpose of calls but does not require the Commission to adopt such a rule. The Commission stated that it would consider this proposal in the context of another pending proceeding, in which it sought comment on adopting a broader set of safeguards that would require voice service providers to take affirmative, effective measures to prevent new and renewing customers from using their networks to originate illegal calls and would hold them responsible for doing due diligence on their high-volume customers. See Advanced Methods to Target and Eliminate Unlawful Robocalls, published at 85 FR 46063, July 31, 2020, paragraph 13.

8. Pursuant to section 12(b)(1) of the TRACED Act, the Commission is working with federal and state law enforcement agencies to protect consumers from one-ring scams by participating in an interagency working group, convened by the Attorney General, in consultation with the Chairman of the Commission, to study Government prosecution of violations of 47 U.S.C. 227(b), and will ensure that the group addresses one-ring scams. Pursuant to section 12(b)(2) of the TRACED Act, the Commission intends to expand and enhance its enforcement coordination and cooperation with foreign governments aimed at combatting unlawful cross-border schemes such as one-ring scams. And pursuant to section 12(b)(3) of the TRACED Act, the Commission will continue and expand its proactive consumer outreach efforts, in conjunction with the Federal Trade Commission, to better educate consumers about how to avoid one-ring scams as well as other fraudulent and abusive robocalling practices.

Final Regulatory Flexibility Analysis

9. As required by the Regulatory Flexibility Act of 1980, as amended, (RFA), an Initial Regulatory Flexibility Analysis (IRFA) was incorporated in the NPRM in this docket. The Commission sought written public comment on the proposals in the NPRM, including comment on the IRFA. The Final Regulatory Flexibility Analysis FRFA conforms to the RFA.

10. Need for, and Objectives of, the Rules. In the Report and Order, the Commission adopts, with some modification, the proposal in the NPRM to include numbers that are likely to be associated with the one ring scam as a category of numbers that voice service providers can block. This will implement section 12 of the TRACED Act, to prevent consumers from a type of scam called a one-ring scam. The TRACED Act defines “one-ring scam” as “a scam in which a caller makes a call and allows the call to ring the called party for a short duration, in order to prompt the called party to return the call, thereby subjecting the called party to charges.”

11. Section 12 of the TRACED Act requires the Commission to initiate a proceeding to protect consumers from one-ring scams and to consider the following ways: Work with federal and state law enforcement agencies; work with the governments of foreign countries; in consultation with the FTC, better educate consumers about how to avoid one-ring scams; encourage voice service providers to stop one-ring scam calls, including adding identified one-ring scam-type numbers to the list of permissible categories for carrier-initiated blocking; work with entities that provide call-blocking services to address one-ring scams; and establish obligations on international gateway providers, including potential requirements that such providers verify with the foreign originator the nature or purpose of calls before initiating service.

12. Summary of Significant Issues Raised by Public Comments in Response to the IRFA. There were no comments filed that specifically addressed the rules and policies proposed in the IRFA.

13. Response to Comments by the Chief Counsel for Advocacy of the Small Business Administration. Pursuant to the Small Business Jobs Act of 2010, which amended the RFA, the Commission is required to respond to any comments filed by the Chief Counsel for Advocacy of the Small Business Administration (SBA), and to provide a detailed statement of any change made to the proposed rules as a result of those comments. The Chief Counsel did not file any comments in response to the proposed rules in this proceeding.

14. Description of Projected Reporting, Recordkeeping, and Other Compliance Requirements. Voice service providers may implement reporting or recordkeeping in order to accomplish blocking of one-ring scam calls, but it is not required in the rule.

15. Steps Taken to Minimize Significant Economic Impact on Small Entities, and Significant Alternatives Considered. The RFA requires an agency to describe any significant alternatives that it has considered in reaching its approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

16. The Commission's rule allows, but does not require, voice service providers to block calls from numbers that they identify, using reasonable analytics, as likely to be associated with one-ring scams. The rule is permissive, not mandatory; it allows all voice service providers, including small businesses, to block such calls, but it does not impose any new compliance obligations or reporting obligations. To the extent this new rule has any economic impact on voice service providers that are small entities, the impact will likely be beneficial because they will be shielded from liability if they opt to block calls in the manner described in the Report and Order.

List of Subjects in 47 CFR Part 64

Communications common carriers, Reporting and recordkeeping requirements, Telecommunications, Telephone.

Federal Communications Commission.
Marlene Dortch,
Secretary, Office of the Secretary.

Final Rules

For the reasons discussed in the preamble, the Federal Communications Commission amends 47 part 64 as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 262, 276, 403(b)(2)(B), (c), 616, 620, 1401-1473, unless otherwise noted; Pub. L. 115-141, Div. P, sec. 503, 132 Stat. 348, 1091.

2. Amend § 64.1200 by redesignating paragraphs (f)(8) through (f)(17) as (f)(9) through (f)(18), and adding paragraphs (f)(8) and (k)(2)(iv), to read as follows:

§ 64.1200 Delivery Restrictions.

* * * * *

(f) * * *

(8) The term one-ring scam means a scam in which a caller makes a call and allows the call to ring the called party for a short duration, in order to prompt the called party to return the call, thereby subjecting the called party to charges.

* * * * *

(k) * * *

(2) * * *

(iv) A telephone number that the provider identifies, based on reasonable analytics, as highly likely to be associated with a one-ring scam.

* * * * *

[FR Doc. 2020-27652 Filed 1-12-21; 8:45 am]

BILLING CODE 6712-01-P